DEPARTMENT OF ENERGY

Federal Energy Regulatory Commission

Consolidated Edison Company of New York, Inc. v. Public Service Electric and Gas Company; Notice Partially Vacating Procedural Schedule and Authorizing Establishment of New Dates

December 3, 2002.

On December 2, 2002, Consolidated Edison Company of New York (ConEd) filed a motion requesting the Commission to suspend the procedural schedule for the hearing in Phase II of this proceeding.

On December 3, 2002, Public Service Electric and Gas Company filed an answer opposing ConEd's request.

For good cause shown, Con Ed's motion will be granted in part. The procedural dates beginning with Filing of Staff's Testimony and ending with Reply Briefs Filed are hereby vacated, pending further action. The remaining dates, beginning with Initial Decision Issued and ending with Briefs Opposing Exceptions Filed, are unchanged.

Magalie R. Salas,
Secretary.

[FR Doc. 02-31087 Filed 12-6-02; 8:45 am]

BILLING CODE 6717-01-P